DEPARTMENT OF COMMERCE

National Oceanic and Atmospheric Administration

50 CFR Part 679

[Docket No. 030414085-3085-01; I.D. 012601B]

RIN 0648-AR04

Fisheries of the Exclusive Economic Zone off Alaska; Revisions to Definition of Length Overall of a Vessel; Correction

AGENCY: National Marine Fisheries Service (NMFS), National Oceanic and Atmospheric Administration (NOAA), Commerce.

ACTION: Final rule; correction.

SUMMARY: This document corrects Figure 6 to Part 679 published in the final rule of September 12, 2001 (66 FR 47416), which implemented changes to the definition of length overall (LOA) of a vessel. This action is necessary to correct errors contained in this figure.

DATES: Effective April 23, 2003.

FOR FURTHER INFORMATION CONTACT: Patsy A. Bearden, 907-586-7008 or patsy.bearden@noaa.gov.

SUPPLEMENTARY INFORMATION: A final rule implementing changes to the definition of LOA of a vessel at § 679.2 was published in the Federal Register September 12, 2001 (66 FR 47416). The final rule omitted revisions to Figure 6 that should have removed the words “stem” and “stern.” These errors are corrected by removing the figure and adding a new one in its place.

Need for Corrections

The September 12, 2001, revisions to the definition of LOA were not included in Figure 6 to part 679. This action corrects that error by removing Figure 6 to part 679 and adding a new one in its place to make it consistent with the definition of “LOA of a vessel” at § 679.2.

Classification

Pursuant to 5 U.S.C. 553(b)(B), the Assistant Administrator of Fisheries, NOAA, finds good cause to waive prior notice and opportunity for public comment. NOAA finds that prior notice and comment are unnecessary as this rule has a non-substantive effect on the public. This rule corrects two errors in the regulations. Each error is technical in nature because each is a term that was removed from the definition of “LOA of a vessel” at § 679.2 but erroneously not removed from Figure 6 to part 679. The public is unaffected by the corrections. Because this action is not substantive, 5 U.S.C. 553(d) does not apply. Therefore, this final rule is not subject to a 30-day delay in effectiveness.

List of Subjects in 50 CFR Part 679

Alaska, Fisheries, Recordkeeping and reporting requirements.

Dated: April 16, 2003.
John Oliver,
Deputy Assistant Administrator for Operations, National Marine Fisheries Service.

Corrections

Accordingly, 50 CFR part 679 is corrected by making the following correcting amendments to the final rule published on September 12, 2001 (66 FR 47416):

Part 679—FISHERIES OF THE EXCLUSIVE ECONOMIC ZONE OFF ALASKA

1. The authority citation for part 679 continues to read as follows:

Authority: 16 U.S.C. 773 et seq., 1801 et seq.; 3631 et seq.; Title II of Division C, Pub. L. 105-277; Sec 3027, Pub. L. 106-31; 113 Stat. 57; 16 U.S.C. 1540(f); and Sec. 209, Pub, L, 106-554.

Figure 6 to Part 679 [Corrected]

2. Figure 6 to Part 679 is correctly revised as follows:

[FR Doc. 03-9928 Filed 4-23-03; 8:45 am]

BILLING CODE 3510-22-S